ENVIRONMENTAL PROTECTION AGENCY

[OPP-00662; FRL-6590-9]

EPA-USDA Committee To Advise on Reassessment and Transition; Notice of Establishment and Public Meeting

AGENCY: Environmental Protection Agency (EPA).

ACTION: Notice of establishment and public meeting.

SUMMARY: The EPA-USDA Committee to Advise on Reassessment and Transition (CARAT) is being established in accordance with the Federal Advisory Committee Act as a subcommittee under the auspices of the EPA National Advisory Council for Environmental Policy and Technology (NACEPT). The purpose of CARAT is to provide advice and counsel to the Administrator of EPA and the Secretary of Agriculture regarding strategic approaches for pest management planning and tolerance reassessment for pesticides as required by the Food Quality Protection Act of 1996 (FQPA). CARAT is preceded by the Tolerance Reassessment Advisory Committee and will be guided by the principles set forth by the Vice President for EPA and the U.S. Department of Agriculture (USDA) to work together to ensure smooth implementation of FQPA through use of sound science, consultation with stakeholders, increased transparency, and reasonable transition for agriculture.

DATES: The first meeting of CARAT will be held on Friday, June 23, 2000, from 9 a.m. to 5 p.m. A background information session, with limited public seating, is being offered to the CARAT members on Thursday, June 22, 2000, from 9 a.m. to 5 p.m.

ADDRESSES: The first meeting of CARAT will be held on June 23, 2000, at the National Rural Electric Cooperative Association (NRECA) Conference Center, 4301 Wilson Boulevard, Arlington, VA 22203; telephone number: 703-907-5500. The NRECA Conference Center is located adjacent to the Ballston Metro Stop. The background information session, with limited public seating, will be held on June 22, 2000, for CARAT members at 1921 Jefferson Davis Highway, Crystal Mall #2, Rm. 1126 (Fishbowl), Arlington, VA 22202; telephone number: 703-305-7090.

FOR FURTHER INFORMATION CONTACT: Margie Fehrenbach or Terria Northern (7501C), Office of Pesticide Programs, Environmental Protection Agency, 1200 Pennsylvania Ave., NW., Washington, DC 20460; telephone number: 703-305-7090 or 703-305-7093; fax number: 703-308-4776; e-mail address: Fehrenbach.Margie@epa.gov or Northern.Terria@epa.gov.

I. Does This Action Apply to Me?

This action is directed to the public in general; however, it may be of interest to persons who are concerned about implementation of the Food Quality Protection Act (Public Law 104-170). Passed in 1996, this new law strengthens the nation's system for regulating pesticides on food. CARAT was preceded by the Tolerance Reassessment Advisory Committee which was established in 1998 in response to Vice President Gore's request for EPA and USDA to work together to ensure smooth implementation of FQPA. Since other entities may also be interested, the Agency has not attempted to describe all the specific entities that may be affected by this action. If you have any questions regarding the applicability of this action to a particular entity, consult the person listed under FOR FURTHER INFORMATION CONTACT.

II. How Can I Get Additional Information, Including Copies of This Document and Other Related Documents?

You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/. To access information about CARAT, go directly to the Home Page for EPA's Office of Pesticide Programs at http://www.epa.gov/pesticides/carat.

List of Subjects

Environmental protection, Agriculture, Chemicals, Foods, Pesticides and Pests.

Dated: May 30, 2000.
Susan H. Wayland,
Acting Assistant Administrator for Prevention, Pesticides and Toxic Substances.

[FR Doc. 00-13942 Filed 6-5-00; 8:45 am]

BILLING CODE 6560-50-P